DEPARTMENT OF HEALTH AND HUMAN SERVICES

Office of Inspector General

Statement of Delegation of Authority

Notice is hereby given that I have delegated to the Inspector General, Office of Inspector General, the authority vested in the Secretary of Health and Human Services under section 1116(e)(1) of the Social Security Act (42 U.S.C. 1316(e)(1)) to conduct reconsiderations of disallowances of any item or class of items for which Federal financial participation is claimed under section 1903 of the Social Security Act (42 U.S.C. 1396b) for the establishment or operation of a Medicaid Fraud Control Unit. This authority may be redelegated to the Principal Deputy Inspector General. This delegation excludes the authority to issue regulations.

This delegation is effective upon date of signature.

Dated: December 12, 2013.
Kathleen Sebelius,
Secretary.

[FR Doc. 2013-30160 Filed 12-18-13; 8:45 am]

BILLING CODE 4152-01-P